ENVIRONMENTAL PROTECTION AGENCY

[EPA-HQ-OPP-2009-0190; FRL-8858-4]

Second National Bed Bug Summit; Notice of Public Meeting

AGENCY: Environmental Protection Agency (EPA).

ACTION: Notice.

SUMMARY: EPA is planning the second National Bed Bug Summit to be held February 1 and 2, 2011, on the topic of the bed bug resurgence in the United States. The goal of this meeting is to review the current bed bug problem and identify and prioritize further actions to address the problem. The objectives of the summit are to identify knowledge gaps and barriers to effective community-wide bed bug control; propose the next steps in addressing knowledge gaps and eliminating barriers; and develop a framework for addressing the highest priority needs. The agenda for this meeting is under development and will be posted on our Web site and placed in the docket in advance of the meeting.

DATES: The meeting will be held on February 1 and 2, 2011, from 8:30 a.m. to 6 p.m. Requests to participate in the meeting must be received on or before January 24, 2011.

To request accommodation of a disability, please contact the person listed under FOR FURTHER INFORMATON CONTACT, preferably at least 10 days prior to the meeting, to give EPA as much time as possible to process your request.

ADDRESSES: The meeting will be held at the Georgetown University Hotel and Conference Center at 3800 Reservoir Road, NW., Washington, DC 20057. For additional information on the location, please see the following Web page: http://www.acc-guhotelandconferencecenter.com/.

FOR FURTHER INFORMATION CONTACT: Angela Hollis, Registration Division (7505P), Office of Pesticide Programs, Environmental Protection Agency, 1200 Pennsylvania Ave., NW., Washington, DC 20460-0001; telephone number: (703) 347-0216; fax number: (703) 308-0029; e-mail address: hollis.angela@epa.gov.

SUPPLEMENTARY INFORMATION:

I. General Information

A. Does this action apply to me?

This action is directed to the public in general. This action may, however, be of interest to persons who are concerned about bed bugs, persons who work in residential settings, housing owners and managers, pest management professionals, pesticide industry and trade associations, public health organizations, environmental and consumer groups, academia, State, local and Tribal governments, persons who are interested in implementation of the Federal Insecticide, Fungicide, and Rodenticide Act (FIFRA); the Federal Food, Drug, and Cosmetic Act (FFDCA), and the amendments to both of these major pesticide laws by the Food Quality Protection Act (FQPA) of 1996. Since other entities may also be interested, the Agency has not attempted to describe all the specific entities that may be affected by this action. If you have any questions regarding the applicability of this action to a particular entity, consult the person listed under FOR FURTHER INFORMATION CONTACT.

B. How can I get copies of this document and other related information?

EPA has established a docket for this action under docket ID number EPA-HQ-OPP-2009-0190. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

The resurgence of the common bed bug continues to be affecting many areas of the country. As this resilient pest has become a nationwide problem affecting hotels, universities, and homes in the general population, it is important that the federal government assist in exploring means of effectively identifying challenges and ways to remedy this pest concern. EPA began discussions to share information on the topic of bed bugs at the first National Bed Bug Summit in April 2009. The first summit provided a venue to identify ideas and opinions on bed bug control and to develop recommendations. This second Bed Bug Summit will further these discussions by identifying knowledge gaps and barriers to effective community-wide bed bug control; proposing the next steps in addressing knowledge gaps and eliminating barriers; and developing a framework for addressing the highest priority needs. Potential participants for this forum include Federal, State, and local government agencies responsible for public health and public housing, researchers and academicians; health, housing and environmental advocacy organizations; the pest management industry; pesticide manufacturers; and other interested parties. All interested parties are encouraged to participate.

III. How can I request to participate in this meeting?

You may submit a request to participate in this meeting to BedBugSummit2Registration@epa.gov. Requests to participate in the meeting should include name, affiliation, address, telephone number, and e-mail address. Do not submit any information in your request that is considered CBI. Requests to participate in the meeting must be received on or before January 24, 2011.

List of Subjects

Environmental protection.

Dated: December 23, 2010.
Lois Rossi,
Director, Registration Division, Office of Pesticide Programs.

[FR Doc. 2010-33200 Filed 1-4-11; 8:45 am]

BILLING CODE 6560-50-P